DEPARTMENT OF TRANSPORTATION

Federal Aviation Administration

14 CFR Part 39

[Docket No. FAA-2014-0035; Directorate Identifier 2013-SW-036-AD; Amendment 39-17734; AD 2014-02-06]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model AB412 helicopters. This AD requires visually inspecting the main rotor swashplate outer ring (outer ring) for a crack and replacing that outer ring if a crack exists. This AD is prompted by two cases of cracks caused by fatigue on certain outer rings. These actions are intended to prevent the failure of the outer ring, which would lead to loss of main rotor blade pitch control and subsequently loss of helicopter control.

DATES: This AD becomes effective March 12, 2014.

The Director of the Federal Register approved the incorporation by reference of a certain document listed in this AD as of March 12, 2014.

We must receive comments on this AD by April 28, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, any comments received, and other information. The street address for the Docket Operations Office (telephone 800-647-5527) is in the ADDRESSES section. Comments will be available in the AD docket shortly after receipt.

For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2013-0152-E, dated July 17, 2013, to correct an unsafe condition for the Agusta Model AB412 helicopter. EASA advises that two cases of cracks were reported in the outer ring, part number (P/N) 412-010-407-105. A subsequent investigation revealed that “fatigue failure” caused the cracks. EASA states that “this condition, if not detected and corrected, could lead to the loss of main rotor blade pitch control, possibly resulting in loss of control of the helicopter.” EASA calls for repetitive inspections of the affected outer rings for a crack and replacing the outer ring with an improved outer ring, P/N 412-010-107-117, if a crack is found. If the outer ring has not been replaced, the AD requires replacing each outer ring, P/N 412-010-407-105, with an improved outer ring, P/N 412-010-107-117, within 300 flight hours or 8 months, whichever occurs first. Replacement with an improved outer ring is terminating action for the repetitive inspections, EASA states.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

AgustaWestland S.p.A. issued Alert Bollettino Tecnico No. 412-134 on July 15, 2013 (BT), to warn that two cases of cracking in the outer ring, P/N 412-010-407-105, have been reported, both attributed to fatigue failure. The BT calls for visually inspecting the outer ring for a crack with a 5X magnifying glass and a bright light. The BT added that the inspection must occur within 5 flight hours from when the BT was issued and within intervals of 25 flight hours thereafter until the outer ring is replaced. The deadline to replace the outer ring with outer ring, P/N 412-010-407-117, is 300 flight hours or no later than April 15, 2014, whichever comes first. Outer ring, P/N 412-010-407-105, was not to be used after April 15, 2014, the BT stated.

AD Requirements

This AD requires:

• Within 5 hours time-in-service (TIS), and thereafter at intervals not to exceed 25 hours TIS, visually inspecting the swashplate outer ring, P/N 412-010-407-105, for cracks, using a 5X magnifying glass and a bright light. If a crack exists, before further flight, removing the swashplate outer ring from service.

• Within 300 hours TIS or 8 months, whichever occurs first, removing the swashplate outer ring, P/N 412-010-407-105, from service.

• Not installing a swashplate outer ring, P/N 412-010-407-105, on any helicopter.

Differences Between This AD and the EASA AD

This AD prohibits installation of a swashplate outer ring, P/N 412-010-407-105, while the EASA AD allows installation of this part under certain conditions.

Costs of Compliance

There are no costs of compliance with this AD because there are no helicopters with this type certificate on the U.S. Registry.

FAA's Justification and Determination of the Effective Date

There are no helicopters with this type certificate on the U.S. Registry. Therefore, we believe it is unlikely that we will receive any adverse comments or useful information about this AD from U.S. Operators.

Since an unsafe condition exists that requires the immediate adoption of this AD, we determined that notice and opportunity for public comment before issuing this AD are unnecessary because there are none of these products on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government. For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-02-06 Agusta S.p.A.: Amendment 39-17734; Docket No. FAA-2014-0035; Directorate Identifier 2013-SW-036-AD.

(a) Applicability

This AD applies to Agusta S.p.A. Model AB412 helicopters with a swashplate outer ring part number (P/N) 412-010-407-105 installed, certificated in any category.

(b) Unsafe Condition

This AD defines the unsafe condition as a crack in the main rotor swashplate outer ring. This condition could result in the loss of main rotor blade pitch control and subsequent loss of control of the helicopter.

(c) Effective Date

This AD becomes effective March 12, 2014.

(d) Compliance

You are responsible for performing each action required by this AD within the specified compliance time unless it has already been accomplished prior to that time.

(e) Required Actions

(1) Within 5 hours time in service (TIS), and thereafter at intervals not to exceed 25 hours TIS, visually inspect the swashplate outer ring, P/N 412-010-407-105, for a crack, using a 5X or higher power magnifying glass and a bright light and referring to Figures 1 and 2 in AgustaWestland S.p.A. Alert Bollettino Tecnico No. 412-134, dated July 15, 2013. If a crack exists, before further flight, remove the swashplate outer ring from service.

(2) Within 300 hours TIS or 8 months, whichever occurs first, remove the swashplate outer ring, P/N 412-010-407-105, from service.

(3) Do not install a swashplate outer ring, P/N 412-010-407-105, on any helicopter.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in the European Aviation Safety Agency (EASA) AD No. 2013-0152-E, dated July 17, 2013. You may view the EASA AD on the Internet at http://www.regulations.gov in Docket No. FAA-2014-0035.

(h) Subject

Joint Aircraft Service Component (JASC) Code: 6230, Main Rotor Mast/Swashplate.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) AgustaWestland S.p.A. Alert Bollettino Tecnico No. 412-134, dated July 15, 2013.

(ii) Reserved.

(3) For AgustaWestland service information identified in this AD, contact AgustaWestland, Customer Support & Services, Via Per Tornavento 15, 21019 Somma Lombardo (VA) Italy, ATTN: Giovanni Cecchelli; telephone 39- 0331-711133; fax 39 0331 711180; or at http://www.agustawestland.com/technical-bullettins.

(4) You may view this service information that is incorporated by reference at the FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 16, 2014.
Lance T. Gant,
Acting Directorate Manager, Rotorcraft Directorate,
Aircraft Certification Service.

[FR Doc. 2014-01956 Filed 2-24-14; 8:45 am]

BILLING CODE 4910-13-P